DEPARTMENT OF AGRICULTURE

Natural Resources Conservation Service

Notice of Proposed Change to the Natural Resources Conservation Service's National Handbook of Conservation Practices

AGENCY: Natural Resources Conservation Service (NRCS), Department of Agriculture.

ACTION: Notice of availability of proposed changes in the NRCS National Handbook of Conservation Practices, Section IV of the Maine State NRCS Field Office Technical Guide (FOTG) located at www.me.nrcs.usda.gov under “Draft Standards for Comments” for review and comment.

SUMMARY: It is the intention of NRCS to issue revised conservation practice standards in its National Handbook of Conservation Practices. These revised standards are the following: 317 Composting Facility; 449 Irrigation Water Management; 595 Pest Management; 614 Watering Facility; 560 Access Road; 362 Diversion; 399 Fishpond Management; 512 Pasture and Hay Planting; 521C Pond Sealing or Lining—Bentonite Sealant; 521B Pond Sealing or Lining—Soil Dispersant; 558 Roof Runoff Structure; 633 Waste Utilization;645 Upland Wildlife Habitat Management.

DATES: Comments will be received on or before May 13, 2000.

FOR FURTHER INFORMATION CONTACT: Inquire in writing to Christopher R. Jones, Assistant State Conservationist for Technology/Planning, Natural Resources Conservation Service (NRCS), 967 Illinois Avenue, Suite #3; Bangor, Maine 04401.

A copy of this standard is available from the above individual.

SUPPLEMENTARY INFORMATION: Section 343 of the Federal Agricultural Improvement and Reform Act of 1996 states that revisions made after enactment of the law to NRCS State Technical Guides used to carry out highly erodible land and wetland provisions of the law shall be made available for public review and comment. For the next 30 days the NRCS will receive comments relative to the proposed changes. Following that period a determination will be made by the NRCS regarding disposition of those comments and a final determination of change will be made.

Dated: March 25, 2002.
Christopher R. Jones,
Assistant State Conservationist for Technology/Planning.

[FR Doc. 02-8766 Filed 4-10-02; 8:45 am]

BILLING CODE 3410-16-P